FEDERAL RESERVE SYSTEM

Proposed Agency Information Collection Activities; Comment Request

AGENCY: Board of Governors of the Federal Reserve System.

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR part 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before November 28, 2005.

ADDRESSES: You may submit comments, identified by FR 2009, FR2028, FR 2572, or FR Y-10S by any of the following methods:

• Agency Web site: http://www.federalreserve.gov. Follow the instructions for submitting comments at http://www.federalreserve.gov/generalinfo/foia/ProposedRegs.cfm.

• Federal eRulemaking Portal: http://www.regulations.gov. Follow the instructions for submitting comments.

• E-mail: regs.comments@federalreserve.gov. Include docket number in the subject line of the message.

• FAX: 202-452-3819 or 202-452-3102.

• Mail: Jennifer J. Johnson, Secretary, Board of Governors of the Federal Reserve System, 20th Street and Constitution Avenue, NW., Washington, DC 20551.

All public comments are available from the Board's Web site at www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

FOR FURTHER INFORMATION CONTACT: A copy of the proposed form and instructions, the Paperwork Reduction Act Submission (OMB 83-I), supporting statement, and other documents that will be placed into OMB's public docket files once approved may be requested from the agency clearance officer, whose name appears below.

Michelle Long, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

Proposal to approve under OMB delegated authority the revision, without extension, of the following reports:

Report titles: Report of Changes in Organizational Structure, Report of Changes in FBO Organizational Structure.

Agency form numbers: FR Y-10 and FR Y-10F.

OMB control number: 7100-0297.

Frequency: Event-generated.

Reporters: Bank holding companies (BHCs), foreign banking organizations (FBOs), and state member banks unaffiliated with a BHC.

Annual reporting hours: 18,004 hours.

Estimated average hours per response: 1 hour.

Number of respondents: 5,510.

General description of report: This information collection is mandatory (12 U.S.C. 248(a)(1), 602, 611a, 1843(k), 1844(c)(1)(A), 3106(a) and 12 CFR 211.13(c), 225.5(b), and 225.87). Individual respondent data are not considered as confidential. However, a company may request confidential treatment pursuant to sections (b)(4) and (b)(6) of the Freedom of Information Act (5 U.S.C. 522(b)(4) and (b)(6)).

Abstract: The FR Y-10 is an event-generated report filed by top-tier domestic BHCs, including financial holding companies (FHCs), and state member banks unaffiliated with a BHC or FHC, to capture changes in their regulated investments and activities. The Federal Reserve uses the data to monitor structure information on subsidiaries and regulated investments of these entities engaged in both banking and nonbanking activities.

The FR Y-10F is an event-generated report filed by FBOs, including FHCs, to capture changes in their regulated investments and activities. The Federal Reserve uses the data to ensure compliance with U.S. banking laws and regulations and to determine the risk profile of the FBO structure.

Current action: The Federal Reserve proposes to add a Supplement to the Reports of Changes in Organizational Structure (FR Y-10S) to enhance the Federal Reserve's ability to compare regulatory data to market data and to increase the Federal Reserve's effectiveness in assessing banking organizations' compliance with Sarbanes-Oxley Act of 2002 (SOX). The initial collection of this data would be as of December 31, 2005.

The FR Y-10S panel would comprise top-tier BHCs, FBOs, and state member banks that are not controlled by a BHC. All of these organizations currently file either the FR Y-10 or FR Y-10F. However, FBOs would not be required to report data for Schedule B.

Schedule A—SEC Reporting Status

As a general matter, the Federal Reserve's supervisory function assesses the effectiveness of a banking organization's systems and processes designed to ensure compliance with laws and regulations, including SOX. SOX contains detailed requirements designed to improve corporate governance, enhance financial disclosures, and reform auditing relationships for public companies, including public banking organizations. Public banking organizations are those bank holding companies and their subsidiaries that are required to file annual reports with the Securities and Exchange Commission (SEC) pursuant to section 13(a) or 15(d) of the Securities and Exchange Act of 1934. The Federal Reserve currently does not require banking organizations to report their SEC registration status, or a change in their status, on an annual or periodic basis. Data from Schedule A would allow the Federal Reserve to closely monitor banking organizations that must comply with SOX.

Schedule B—Committee on Uniform Security Identification Procedures (CUSIP) number

Over the last several years, the need to analyze regulatory data and market data jointly has increased for supervisory and economic research purposes. The Federal Reserve and other federal banking agencies are increasingly interested in the ability to perform this analysis. The market data could be used for risk classifications for deposit insurance pricing purposes and off-site surveillance models used to quantify the likelihood of downgrades in supervisory ratings.

To facilitate both supervisory analysis and economic research, there have been efforts to build databases linking Federal Reserve unique identifiers for institutions (ID RSSDs) to market identifiers such as CUSIP numbers and stock tickers. Although the market identifiers such as CUSIP numbers are publicly available, reconciling them to regulatory data has proven difficult and imprecise because so many institutions have similar attributes (such as entity names). Many who use these data have found it difficult and time consuming to perform this task and to keep the list up to date, particularly when there are mergers and acquisitions. Accurate and timely data are often needed to respond to Congressional and other inquiries. To assist in this reconciling, collection of six-digit CUSIP numbers on the FR Y-10S would provide a link between the ID RSSD identifiers and the market identifiers.

A CUSIP number identifies publicly-issued securities, including stocks of all registered U.S. and Canadian companies and U.S. government and municipal bonds. The number consists of nine characters (including letters and numbers) that uniquely identify a company or issuer and the type of security. The Federal Reserve proposes to require only the first six digits of the CUSIP number to reduce burden, and this number would still allow the Federal Reserve to uniquely identify the company. This item also would be completed by the respondent for certain of its subsidiaries that have these identifiers.

The CUSIP number may be used to link data from regulatory reports with other publicly available datasets that contain stock and bond returns, earnings forecasts, executive compensation, and the like. The Federal Reserve specifically requests comment on the benefits of making this information available to the public. An index matching the CUSIP number with the ID RSSD would allow investors, policy makers and academics to more fully examine issues ranging from bank-level economic performance to policy research on factors impacting systemic risk. Finally, as regulators increasingly rely on market discipline, the proposed change to link the regulatory and market data will assist in monitoring market activities.

Proposal to approve under OMB delegated authority the extension for three years, with minor revision, of the following reports:

1. Report title: Survey of Terms of Lending.

Agency form number: FR 2028A, FR 2028B, and FR 2028S.

OMB control number: 7100-0061.

Frequency: Quarterly.

Reporters: Commercial banks; and U.S. branches and agencies of foreign banks (FR 2028A and FR 2028S only).

Annual reporting hours: 7,317 hours.

Estimated average hours per response: FR 2028A, 3.7 hours; FR 2028B, 1.2 hours; and FR 2028S, 0.1 hours.

Number of respondents: FR 2028A, 398; FR 2028B, 250; and FR 2028S, 567.

General description of report: This information collection is voluntary (12 U.S.C. 248(a)(2)) and is given confidential treatment (5 U.S.C. 552(b)(4)).

Abstract: The Survey of Terms of Lending provides unique information concerning both price and certain nonprice terms of loans made to businesses and farmers during the first full business week of the mid-month of each quarter (February, May, August, and November). The survey comprises three reporting forms: The FR 2028A, Survey of Terms of Business Lending; the FR 2028B, Survey of Terms of Bank Lending to Farmers; and the FR 2028S, Prime Rate Supplement to the Survey of Terms of Lending. The FR 2028A and B collect detailed data on individual loans made during the survey week, and the FR 2028S collects the prime interest rate for each day of the survey from both FR 2028A and FR 2028B respondents. From these sample data, estimates of the terms of business loans and farm loans extended during the reporting week are constructed. The estimates for business loans are published in the quarterly E.2 release, Survey of Terms of Business Lending, while estimates for farm loans are published in the quarterly E.15 release, Agricultural Finance Databook.

Current Actions: The Federal Reserve proposes to revise the FR 2028A and FR 2028B by increasing to $3,000 the minimum size of loans reported. This revision would be implemented effective for the May 2006 survey week. No changes are proposed to the FR 2028S. The Federal Reserve would like to solicit specific comments on changing the minimum loan threshold from $1,000 to $3,000.

2. Report title: Report of Terms of Credit Card Plans.

Agency form number: FR 2572.

OMB control number: 7100-0239.

Frequency: Semi-annual.

Reporters: Commercial banks, savings banks, industrial banks, and savings and loans associations.

Annual reporting hours: 75 hours.

Estimated average hours per response: 0.25 hours.

Number of respondents: 150.

General description of report: This information collection is voluntary (15 U.S.C. 1646(b)) and is not given confidential treatment.

Abstract: This report collects data on credit card pricing and availability from a sample of at least 150 financial institutions that offer credit cards to the general public. The information is reported to the Congress and made available to the public in order to promote competition within the industry.

Current Actions: The Federal Reserve proposes two minor clarifications on the FR 2572 reporting form and instructions with regard to items 56 through 58, in which the fee amounts for cash advances, late payments, and exceeding the credit limit are reported. Clarification is needed to ensure that only one of two mutually exclusive responses is reported. Responses must diverge according to whether the particular fee is uniform or variable over the card plan's geographic area of availability.

Discontinuation of the following report:

Report title: Monthly Survey of Industrial Electricity Use.

Agency form number: FR 2009.

OMB control number: 7100-0057.

Frequency: Monthly.

Reporters: FR 2009a/c, Electric utility companies; and FR 2009b, cogenerators.

Annual reporting hours: FR 2009a/c, 1,920 hours; and FR 2009b, 900 hours.

Estimated average hours per response: FR 2009a/c, 1 hour; and FR 2009b, 30 minutes.

Number of respondents: FR 2009a/c, 160; and FR 2009b, 150.

General description of report: This information collection is voluntary (12 U.S.C. 225a, 263, 353 et seq., and 461) and is given confidential treatment (5 U.S.C. 552(b)(4)).

Abstract: This voluntary survey collects information on the volume of electric power delivered during the month to classes of industrial customers. There are three versions of the survey: the FR 2009a and FR 2009c collect information from electric utilities, the FR 2009a in Standard Industrial Codes and the FR 2009c in North American Industry Classification System codes. The FR 2009b collects information from manufacturing and mining facilities that generate electric power for their own use. The electric power data are used in deriving the Federal Reserve's monthly index of industrial production as well as for calculating the monthly estimates of electric power used by industry.

Current Actions: The Federal Reserve proposes to discontinue the FR 2009. The reliability of the FR 2009 data has decreased in recent years due to industry consolidation that resulted from the deregulation of the electricity markets. Since 1997 the panel size has decreased by about 30 percent and the coverage of the panel in terms of the amount of electric power used by industry has also fallen about 30 percent. Consequently, the electric power data have become unacceptably volatile and have required a significant increase in resources to continue the use of these data in the construction of industrial production.

Board of Governors of the Federal Reserve System, September 22, 2005.
Jennifer J. Johnson,
Secretary of the Board.

[FR Doc. 05-19400 Filed 9-28-05; 8:45 am]

BILLING CODE 6210-01-U